DEPARTMENT OF LABOR

Employment and Training Administration

[TA-W-65,750]

Chick Machine Co., Inc., Butler, PA; Notice of Termination of Investigation

Pursuant to Section 221 of the Trade Act of 1974, as amended, an investigation was initiated on April 6, 2009 in response to a petition filed by a company official on behalf of workers of Chick Machine Co., Inc., Butler, Pennsylvania.

The petitioner has requested that the petition be withdrawn. Consequently, the investigation has been terminated.

Signed at Washington, DC, this 9th day of April 2009.
Richard Church,
Certifying Officer, Division of Trade Adjustment Assistance.

[FR Doc. E9-10894 Filed 5-8-09; 8:45 am]

BILLING CODE 4510-FN-P